DEPARTMENT OF THE INTERIOR

Fish and Wildlife Service

Receipt of Applications

AGENCY: Fish and Wildlife Service, Interior.

ACTION: Notice of receipt.

SUMMARY: We announce our receipt of applications to conduct certain activities pertaining to scientific research and enhancement of survival of endangered species.

DATES: Written comments on these requests for permits must be received by November 8, 2002.

ADDRESSES: Written data or comments should be submitted to the Assistant Regional Director-Ecological Services, U.S. Fish and Wildlife Service, P.O. Box 25486, Denver Federal Center, Denver, Colorado 80225-0486; telephone 303-236-7400, facsimile 303-236-0027.

FOR FURTHER INFORMATION CONTACT: Documents and other information submitted with these applications are available for review, subject to the requirements of the Privacy Act and Freedom of Information Act, by any party who submits a written request for a copy of such documents within 20 days of the date of publication of this notice to the address above; telephone 303-236-7400.

SUPPLEMENTARY INFORMATION: The following applicants have requested renewal of scientific research and enhancement of survival permits to conduct certain activities with endangered species pursuant to section 10(a)(1)(A) of the Endangered Species Act of 1973, as amended (16 U.S.C. 1531 et seq.).

TE-051833

Applicant: J. Stephen McCusker, San Antonio Zoo, San Antonio, Texas

The applicant requests a permit to possess black-footed ferrets (Mustela nigripes) for public display in conjunction with recovery activities for the purpose of enhancing the species' survival and recovery.

TE-062348

Applicant: Craig Milewski, Dakota State University, Madison, South Dakota

The applicant requests a permit to take Topeka shiner (Notropis topeka) in conjunction with recovery activities throughout the species' range for the purpose of enhancing their survival and recovery.

Dated: September 19, 2002.
Mary G. Henry,
Regional Director, Denver, Colorado.

[FR Doc. 02-25653 Filed 10-8-02; 8:45 am]

BILLING CODE 4310-55-P